DEPARTMENT OF VETERANS AFFAIRS

[OMB Control No. 2900-0797]

Agency Information Collection Activity Under OMB Review: Principles of Excellence Complaint System Intake

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0797”.

FOR FURTHER INFORMATION CONTACT: Danny S. Green, Enterprise Records Service (005R1B) Department of Veterans Affairs, 810 Vermont Avenue NW, Washington, DC 20420, (202) 421-1354 or email danny.green2@va.gov. Please refer to “OMB Control No. 2900-0797” in any correspondence.

SUPPLEMENTARY INFORMATION:

Authority: Executive Order 13607.

Title: Principles of Excellence Complaint System Intake.

OMB Control Number: 2900-0797.

Type of Review: Revision of a currently approved collection.

Abstract: The respondent submits a complaint about an educational institution online through either the GI Bill website or the eBenefit portal. The information gathered can only be obtained from the individual respondents. Valid complaints will be accepted from third parties. The intake process for both DoD's and VA's complaint system share common data elements, but have some modifications specific to each agency's complaint handling process:

VA:

• Institution/Employer: There are over 36,000 educational institutions that are approved for VA education benefits, while DoD has less than 7,000.

• Anonymous Complaints: PoECS allows for a user to file anonymous complaints. Based on working group discussions with CFPB and FTC, VA believes that allowing anonymous complaints will garner more ground truth on what is happening with veterans using their education benefits at different schools.

• Required fields: As a result of allowing anonymous complaints, many of the fields that DoD requires a user to fill will not be required by VA.

DoD:

• Education Centers: DoD requires education center information that does not fall within the purview of VA.

• Military Branch/Rank: DoD requires a user to select a service affiliation and pay grade.

An agency may not conduct or sponsor, and a person is not required to respond to a collection of information unless it displays a currently valid OMB control number. The Federal Register Notice with a 60-day comment period soliciting comments on this collection of information was published at 85 FR 65 on April, 3, 2020, pages 19075 and 19076.

Affected Public: Individuals or Households.

Estimated Annual Burden: 399 hours.

Estimated Average Burden Per Respondent: 15 minutes.

Frequency of Response: On occasion.

Estimated Number of Respondents: 1,596.

By direction of the Secretary.
Danny S. Green,
VA Clearance Officer, Office of Quality, Performance and Risk, Department of Veterans Affairs.

[FR Doc. 2020-13602 Filed 6-23-20; 8:45 am]

BILLING CODE 8320-01-P